ENVIRONMENTAL PROTECTION AGENCY

[FRL OP-OFA-176]

Environmental Impact Statements; Notice of Availability

Responsible Agency: Office of Federal Activities, General Information 202-564-5632 or https://www.epa.gov/nepa.

Weekly receipt of Environmental Impact Statements (EIS)

Filed April 21, 2025 10 a.m. EST Through April 28, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250047, Draft, BLM, CA, Mojave Exploration Drilling Project, Comment Period Ends: 06/16/2025, Contact: Philip Desenze 760-384-5400.

EIS No. 20250048, Final, RUS, AK, ADOPTION—Sweetheart Lake Hydroelectric Project Final Environmental Impact Statement, Review Period Ends: 06/02/2025, Contact: Russell Japuntich 970-566-1575.

The Rural Utilities Service (RUS) has adopted the Federal Energy Regulatory Commission's Final EIS No. 20160124 filed 05/31/2016 with the Environmental Protection Agency. The RUS was not a cooperating agency on this project. Therefore, republication of the document is necessary.

Dated: April 28, 2025.
Prasad Chumble,
Acting Director, Office of Federal Activities.

[FR Doc. 2025-07640 Filed 5-1-25; 8:45 am]

BILLING CODE 6560-50-P